DEPARTMENT OF ENERGY

Federal Energy Regulatory Commission

[Docket No. OA00-5-000]

Commonwealth Edison Company and Commonwealth Edison Company of Indiana, Inc.; Notice of Filing

March 28, 2000.

Take notice that on March 9, 2000, Commonwealth Edison Company and Commonwealth Edison Company of Indiana, Inc. (Commonwealth) submitted revised standards of conduct under Order No. 889 et seq.¹ to reflect a reorganization of the transmission function. Commonwealth also states that it has revised its organizational charts and job descriptions on the OASIS.

¹ Open Access Same-Time Information System (Formerly Real-Time Information Network) and Standards of Conduct, 61 FR 21737 (May 10, 1996), FERC Stats. & Regs., Regulations Preambles January 1991-1996 ¶ 31,035 (April 24, 1996), Order No. 889-A, order on rehearing, 62 FR 12484 (March 14, 1997), III FERC Stats. & Regs. ¶ 31,049 (March 4, 1997); Order No. 889-B, rehearing denied, 62 FR 64715 (December 9, 1997), III FERC Stats. & Regs. ¶ 31,253 (November 25, 1997).

Commonwealth states that it served copies of the filing on the service list in this proceeding.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before April 12, 2000. Protests will be considered by the Commission to determine the appropriate action to be taken, but will not serve to make protestants parties to the proceeding. Any person wishing to become a party must file a motion to intervene. Copies of Commonwealth's filing are on file with the Commission and are available for public inspection. This filing may also be viewed on the Internet at http://www.ferc.fed.us/online.rims.htm (call 202-208-2222 for assistance).

David P. Boergers,
Secretary.

[FR Doc. 00-8059 Filed 3-31-00; 8:45 am]

BILLING CODE 6717-01-M